DEPARTMENT OF ENERGY

Federal Energy Regulatory Commission

[Docket Nos. RP12-945-000; RP12-945-001]

High Point Gas Transmission, LLC; Notice Establishing Deadline for Comments

On October 26, 2012, High Point Gas Transmission, LLC (High Point) filed a response to the Commission's October 16, 2012 Data Request in the captioned proceedings.

Notice is hereby given that participants in the captioned proceedings may file comments to High Point's Data Response on or before 5:00 p.m. Eastern time on Tuesday, November 6, 2012.

Dated: October 31, 2012.
Nathaniel J. Davis, Sr.,
Deputy Secretary.

[FR Doc. 2012-27005 Filed 11-5-12; 8:45 am]

BILLING CODE 6717-01-P